DEPARTMENT OF THE INTERIOR

National Park Service

[N6434; NPS-WASO-NAGPRA-NPS0040844; PPWOCRADN0-PCU00RP14.R50000]

Notice of Inventory Completion: Kansas State Historical Society, Topeka, KS

AGENCY: National Park Service, Interior.

ACTION: Notice.

SUMMARY: In accordance with the Native American Graves Protection and Repatriation Act (NAGPRA), the Kansas State Historical Society (KSHS) has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS, and additional information on the determinations in this notice, including the results of consultation, can be found in its inventory or related records. The National Park Service is not responsible for the determinations in this notice.

Abstract of Information Available

Human remains representing, at least, four individuals have been identified from Ingalls Mound (14AT316) in Atchison County, KS (UBS 1991-91). The 14 associated funerary objects are pottery sherds, a ground stone axe, rock, and a basalt ground stone pendant. The remains and objects were conveyed to KSHS in 1907.

Human remains representing, at least, two individuals have been identified from Doniphan County, KS (UBS 1989-16B). No associated funerary objects are present. Provenience information is unknown. The remains were exposed to glue, then de-glued using acetone, and then reconstructed with adhesive cyanoacrylate ester.

Human remains representing, at least, 32 individuals have been identified from Matter Mound (14JW303) in Jewell County, KS (UBS 1990-30). The 983 associated funerary objects are shell beads, animal bone beads, chipped stone tools, a pebble, and shell fragments. The human remains and objects are from a rock-filled burial mound first disturbed by pothunters and then excavated by KSHS. Some of the remains were encased in plaster and found to have glue present.

Human remains representing, at least, one individual have been identified from Jewell County, KS (UBS 2001-13A). No associated funerary objects are present. The provenience is uncertain, however, the museum exhibit said these remains were from the `last Indian raid in KS.'

Human remains representing, at least, one individual have been identified from site 14NH4 in Nemaha County, KS (UBS 2022-05). The two associated funerary objects are animal bones. The human and animal remains were found in the bed of Spring Creek and given to the local sheriff.

Human remains representing, at least, one individual have been identified from the Krob site (14RP319) in Republic County, KS (UBS 1989-16A). No associated funerary objects are present. The remains were found in front of a farmhouse by the landowner and at some point were reconstructed with glue. Shellac is also present.

Human remains representing, at least, one individual have been identified from site 14RP305 in Republic County, KS (UBS 2000-17). No associated funerary objects are present. The remains were disturbed by cultivation and removed by KSHS after reports of bone being found scattered across a field.

Human remains representing, at least, one individual have been identified from site 14RP64 in Republic County, KS (UBS 2021-10). The eight associated funerary objects are pottery sherds. The remains were found on a terrace above Salt Creek and were then conveyed to KSHS.

Human remains representing, at least, one individual have been identified from Republic County (UBS 1999-23). No associated funerary objects are present. These remains were found on a sandbar on the Republican River.

Human remains representing, at least, one individual have been identified from Smith County, KS (UBS 1989-18K). No associated funerary objects are present. This burial was disturbed by a bulldozer and then removed and taken to the Sternberg Museum.

Human remains representing, at least, two individuals have been identified from Marshall County, KS (UBS 2010-02) and Washington County, KS (UBS 2020-03). No associated funerary objects are present. These remains have minimal information and are limited to county-level provenience.

Human remains representing, at least, one individual have been identified from an unknown location (UBS 2016-05). No associated funerary objects are present. These remains were removed from the property of an archeologist after her death. No other provenience information is available.

Unless noted above, no known hazardous substances were used to treat any of the human remains or associated funerary objects.

Cultural Affiliation

Based on the information available and the results of consultation, cultural affiliation is reasonably identified by the geographical location or acquisition history of the human remains and associated funerary objects described in this notice.

Determinations

The KSHS has determined that:

• The human remains described in this notice represent the physical remains of 48 individuals of Native American ancestry.

• The 1,007 objects described in this notice are reasonably believed to have been placed intentionally with or near individual human remains at the time of death or later as part of the death rite or ceremony.

• There is a connection between the human remains and associated funerary objects described in this notice and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 11, 2025. If competing requests for repatriation are received, the KSHS must determine the most appropriate requestor prior to repatriation. Requests for joint repatriation of the human remains and associated funerary objects are considered a single request and not competing requests. The KSHS is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15965 Filed 8-20-25; 8:45 am]

BILLING CODE 4312-52-P